DEPARTMENT OF TRANSPORTATION

National Highway Traffic Safety Administration

[Docket No. NHTSA-2023-0024]

Agency Information Collection Activities; Notice and Request for Comment; First Responder Incident Advanced Reporting Program: Extension of Comment Period

AGENCY: National Highway Traffic Safety Administration (NHTSA), Department of Transportation (DOT).

ACTION: Extension of comment period.

SUMMARY: NHTSA is extending the comment period for the notice NHTSA published on June 12, 2023 seeking public comment on its intention to seek approval from the Office of Management and Budget (OMB) for a new information collection for NHTSA's planned First Responder Incident Advanced Reporting (FRIAR) Program. The comment period for the FRIAR notice was scheduled to end on August 11, 2023. NHTSA is extending the comment period for the notice by 20 days to allow for additional time to submit comments.

DATES: The comment period for the notice published on June 12, 2023, at 88 FR 38124, is extended to August 31, 2023.

ADDRESSES: You may submit comments identified by the Docket No. NHTSA-2023-0024 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Tanya Topka, Office of Defects Investigation (NEF-100), (202) 366-9590, National Highway Traffic Safety Administration, W48-336, U.S. Department of Transportation, 1200 New Jersey Avenue SE, Washington, DC 20590.

SUPPLEMENTARY INFORMATION: Pursuant to the requirements of the Paperwork Reduction Act of 1995 (44 U.S.C. 3501 et seq.), before an agency submits a proposed collection of information to OMB for approval, it must first publish a document in the Federal Register providing a 60-day comment period and otherwise consult with members of the public and affected agencies concerning each proposed collection of information. In accordance with this requirement, NHTSA published a Federal Register notice on June 12, 2023 (88 FR 38124) seeking public comment on its intention to seek approval from OMB for a new information collection that will allow NHTSA to provide first responders with a distinct mechanism to report to NHTSA's Office of Defects Investigation (ODI) regarding fatalities, injuries, or crashes that may have been caused due to an alleged defect. Currently, ODI collects Vehicle Owner Questionnaires (VOQ) to gather information from the public about alleged or suspected safety defects. The FRIAR collection will be a separate method to collect safety and defect related information from the first responder community that will expedite and prioritize ODI's review of such reports.

In addition to publishing the 60-day notice, and consistent with the requirements of the Paperwork Reduction Act, NHTSA conducted additional outreach regarding this effort by highlighting NHTSA's publication of its June 12, 2023 notice during a presentation at the IACP Impaired Driving and Traffic Safety Conference on August 9, 2023. The conference is widely attended by potential FRIAR respondents and other traffic safety professionals and some attendees expressed interest in providing comments on the notice. In order to provide additional time for these comments to be submitted, NHTSA is extending the comment period by 20 days.

Authority: The Paperwork Reduction Act of 1995; 44 U.S.C. chapter 35, as amended; 49 CFR 1.49; and DOT Order 1351.29A.

Tanya Topka,
Acting Director, Office of Defect Investigation.

[FR Doc. 2023-17683 Filed 8-16-23; 8:45 am]

BILLING CODE 4910-59-P